GENERAL SERVICES ADMINISTRATION

41 CFR Part 102-34

[FMR Change 2011-03; FMR Case 2011-102-2; Docket 2011-0011; Sequence 2]

RIN 3090-AJ14

Federal Management Regulation; Motor Vehicle Management

AGENCY: Office of Governmentwide Policy, (GSA).

ACTION: Final rule.

SUMMARY: The General Services Administration is amending the Federal Management Regulation (FMR) by revising current policy on the definitions relating to the rental versus the lease of motor vehicles. The rule increases the less than 60 continuous day rental timeframe to less than 120 continuous days and adjust the definition of the term “commercial lease or lease commercially” accordingly to allow for the instances when agencies have a valid temporary mission requirement for a motor vehicle of 60 continuous days or more in duration but of significantly fewer days in duration than is typically available under commercial leases, which commonly require a minimum lease period of one year.

DATES: Effective Date: December 8, 2011.

FOR FURTHER INFORMATION CONTACT: For clarification of content, contact Mr. James Vogelsinger, Director, Motor Vehicle Management Policy Division, at (202) 501-1764 or email at james.vogelsinger@gsa.gov. Please contact the Regulatory Secretariat (MVCB), 1275 First Street NE., Washington, DC 20417, (202) 501-4755, for information pertaining to status or publication schedules. Please cite FMR Change 2011-03, FMR Case 2011-102-2.

SUPPLEMENTARY INFORMATION:

A. Background

Currently, as provided in 41 CFR 102-34.35, a motor vehicle rental is limited to less than 60 continuous days. If an agency obtains a motor vehicle for 60 continuous days or more, then it is a commercial lease under current regulations. Agencies, however, often have a valid temporary mission requirement for a motor vehicle of 60 continuous days or more in duration but of significantly fewer days in duration than is typically available under commercial leases, which commonly require a minimum lease period of one year. Also, some agencies have requirements from time to time for additional vehicles for relatively short periods of time. As a result, agencies are turning to short-term rentals to meet these motor vehicle needs but have encountered impediments when those needs meet or exceed 60 continuous days but are less than a year (for which commercial leases are commonly available).

A proposed rule to amend section 102-34.35 of the FMR (41 CFR 102-34.35) to redefine the term “motor vehicle rental” to increase the less than 60 continuous day rental timeframe to less than 120 continuous days and adjust the definition of the term “commercial lease or lease commercially” accordingly was published in the Federal Register on June 1, 2011 (76 FR 31545). There were no comments. This regulatory amendment will provide greater flexibility to Federal agencies in meeting their motor vehicle needs.

B. Executive Order 12866 and Executive Order 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

C. Regulatory Flexibility Act

This final rule would not have a significant economic impact on a substantial number of small entities within the meaning of the Regulatory Flexibility Act, 5 U.S.C. 601, et seq. This final rule is also exempt from the Regulatory Flexibility Act per 5 U.S.C. 553(a)(2) because it applies to agency management. However, this final rule is being published to provide transparency in the promulgation of Federal policies.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-34

Energy conservation, Government property management, Motor vehicles, Reporting and recordkeeping requirements.

Dated: October 31, 2011.
Martha Johnson,
Administrator.

For the reasons set forth in the preamble, GSA amends 41 CFR part 102-34 as set forth below:

PART 102-34—MOTOR VEHICLE MANAGEMENT

1. The authority citation for 41 CFR part 102-34 continues to read as follows:

Authority: 40 U.S.C. 121(c); 40 U.S.C. 17503; 31 U.S.C. 1344; 49 U.S.C. 32917; E.O. 12375.

2. In § 102-34.35, revise the definitions of the terms “Commercial lease or lease commercially” and “Motor vehicle rental” to read as follows:

§ 102-34.35 What definitions apply to this part?

* * * * *

Commercial lease or lease commercially means obtaining a motor vehicle by contract or other arrangement from a commercial source for 120 continuous days or more. (Procedures for purchasing and leasing motor vehicles through GSA can be found in 41 CFR subpart 101-26.5).

* * * * *

Motor vehicle rental means obtaining a motor vehicle by contract or other arrangement from a commercial source for less than 120 continuous days.

* * * * *

[FR Doc. 2011-31470 Filed 12-7-11; 8:45 am]

BILLING CODE 6820-14-P